DEPARTMENT OF AGRICULTURE

Forest Service

36 CFR Part 242

DEPARTMENT OF THE INTERIOR

Fish and Wildlife Service

50 CFR Part 100

[FWS-R7-SM-2008-0021; 70101-1335-0064L6]

RIN 1018-AU71

Subsistence Management Regulations for Public Lands in Alaska, Subpart C and Subpart D—2008-09 Subsistence Taking of Fish and Shellfish Regulations

AGENCIES: Forest Service, Agriculture; Fish and Wildlife Service, Interior.

ACTION: Final rule; correcting amendment.

SUMMARY: On March 14, 2008, we published a final rule that established regulations for seasons, harvest limits, methods, and means related to taking of fish and shellfish for subsistence uses during the 2008-09 regulatory year. This rule, which became effective April 1, 2008, and remains effective through March 31, 2009, contained an error in the regulatory text. This document corrects that error.

DATES: This correction is effective July 14, 2008.

FOR FURTHER INFORMATION CONTACT: Chair, Federal Subsistence Board, c/o U.S. Fish and Wildlife Service, Attention: Peter J. Probasco, Office of Subsistence Management; (907) 786-3888. For questions specific to National Forest System lands, contact Steve Kessler, Subsistence Program Leader, USDA—Forest Service, Alaska Region, (907) 786-3592.

SUPPLEMENTARY INFORMATION: On March 14, 2008, we published a final rule (73 FR 13761) that established regulations for seasons, harvest limits, methods, and means for taking fish and shellfish for subsistence uses during the 2008-09 regulatory year. This rule became effective April 1, 2008, and remains effective through March 31, 2009. We made an error in our regulatory text. In __.27(i)(13), there was an extra paragraph (i)(13)(xx), which inserted material about the Taku River in the middle of material pertaining to Prince of Wales/Kosciusko Islands. This correction redesignates extra paragraph (i)(13)(xx) as (xxi). The substance of the regulations remains unchanged.

Administrative Procedure Act

We find good cause to waive notice and comment on this correction, pursuant to 5 U.S.C. 533(b)(B), and the 30-day delay in effective date pursuant to 5 U.S.C. 553(d). Notice and comment are unnecessary because this correction is a minor, technical change in the numbering of the regulations. The substance of the regulations remains unchanged. Therefore, this correction is being published as a final regulation and is effective July 14, 2008.

List of Subjects

36 CFR Part 242

Administrative practice and procedure, Alaska, Fish, National forests, Public lands, Reporting and recordkeeping requirements, Wildlife.

50 CFR Part 100

Administrative practice and procedure, Alaska, Fish, National forests, Public lands, Reporting and recordkeeping requirements, Wildlife.

Accordingly, we amend title 36, part 242, and title 50, part 100, of the Code of Federal Regulations as follows:

PART___—SUBSISTENCE MANAGEMENT REGULATIONS FOR PUBLIC LANDS IN ALASKA

1. The authority citation for both 36 CFR part 242 and 50 CFR part 100 continues to read as follows:

Authority: 16 U.S.C. 3, 472, 551, 668dd, 3101-3126; 18 U.S.C. 3551-3586; 43 U.S.C. 1733.

2. Amend § __.27 by:

A. Revising paragraph (i)(13)(xix);

B. Correctly redesignating the first paragraph designated as paragraph (i)(13)(xx) as paragraph (i)(13)(xxi); and

C. Revising paragraph (i)(13)(xx) and newly designated (i)(13)(xxi) to read as follows:

§ __.27 Subsistence taking of fish.

* * * * *

(i) * * *

(13) * * *

(xix) You may take steelhead trout on Prince of Wales and Kosciusko Islands under the terms of Federal subsistence fishing permits. You must obtain a separate permit for the winter and spring seasons.

(A) The winter season is December 1 through the last day of February, with a harvest limit of two fish per household. You may use only a dip net, handline, spear, or rod and reel. The winter season may be closed when the harvest level cap of 100 steelhead for Prince of Wales/Kosciusko Islands has been reached. You must return your winter season permit within 15 days of the close of the season and before receiving another permit for a Prince of Wales/Kosciusko steelhead subsistence fishery. The permit conditions and systems to receive special protection will be determined by the local Federal fisheries manager in consultation with ADF&G.

(B) The spring season is March 1 through May 31, with a harvest limit of five fish per household. You may use only a dip net, handline, spear, or rod and reel. The spring season may be closed prior to May 31 if the harvest quota of 600 fish minus the number of steelhead harvested in the winter subsistence steelhead fishery is reached. You must return your spring season permit within 15 days of the close of the season and before receiving another permit for a Prince of Wales/Kosciusko steelhead subsistence fishery. The permit conditions and systems to receive special protection will be determined by the local Federal fisheries manager in consultation with ADF&G.

(xx) In addition to the requirement for a Federal subsistence fishing permit, the following restrictions for the harvest of Dolly Varden, brook trout, grayling, cutthroat, and rainbow trout apply:

(A) The daily household harvest and possession limit is 20 Dolly Varden; there is no closed season or size limit;

(B) The daily household harvest and possession limit is 20 brook trout; there is no closed season or size limit;

(C) The daily household harvest and possession limit is 20 grayling; there is no closed season or size limit;

(D) The daily household harvest limit is 6 and the household possession limit is 12 cutthroat or rainbow trout in combination; there is no closed season or size limit;

(E) You may only use a rod and reel;

(F) The permit conditions and systems to receive special protection will be determined by the local Federal fisheries manager in consultation with ADF&G.

(xxi) There is no subsistence fishery for any salmon on the Taku River.

Dated: July 8, 2008.
Sara Prigan,
Federal Register Liaison.

[FR Doc. E8-16026 Filed 7-11-08; 8:45 am]

BILLING CODE 3410-11-P, 4310-55-P